DEPARTMENT OF THE INTERIOR

Bureau of Land Management

[LLNVE02000 L5110000.GN0000LVEMF1300570 241A; 13-08807; MO# 4500050125; TAS: 14X5017]

Notice of availability of the Final Environmental Impact Statement for the Proposed Hollister Underground Mine Project, Elko County, NV

AGENCY: Bureau of Land Management, Interior.

ACTION: Notice of Availability.

SUMMARY: In accordance with the National Environmental Policy Act of 1969, as amended, and the Federal Land Policy and Management Act of 1976, as amended, the Bureau of Land Management (BLM) has prepared a Final Environmental Impact Statement (EIS) for the Hollister Underground Mine Project and by this notice is announcing its availability.

DATES: The BLM will not issue a final decision on the proposal for a minimum of 30 days from the date that the Environmental Protection Agency publishes their notice in the Federal Register.

ADDRESSES: Copies of the Final EIS for the Hollister Underground Mine Project are available for public inspection at the BLM Elko District Office. Interested persons may also review the FEIS on the Internet at http://www.blm.gov/nv/st/en/fo/elko_field_office/blm_information/nepa.html.

FOR FURTHER INFORMATION CONTACT: For further information contact Janice Stadelman, Project Manager; telephone 775-753-0346; address 3900 Idaho Street, Elko, NV 89801; email: jstadelm@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Rodeo Creek Gold Inc. proposes an amendment to their plan of operations for the Hollister Underground Mine Project, which is located 47 miles northwest of Elko, Nevada in Elko County. The proposed amendment would expand existing underground exploration activities into an underground gold and silver mining operation. Most of the infrastructure to support a mining operation was authorized and built to conduct the underground exploration activities. The proposed project would create approximately 222 acres of surface disturbance. The project is expected to operate for 20 years and would provide an estimated 220 jobs.

The proposal is in conformance with the 1986 Elko Resource Area Resource Management Plan.

The Proposed Action consists of underground mining, constructing a new production shaft, improving existing roads, building a 120 kilovolt (kV) electrical power transmission line and a 24.9 kV distribution line to the mine site, upgrading ancillary facilities, and continuing both surface and underground exploration. The proposed project would augment the existing mine water management facilities that include water treatment facilities and rapid infiltration basins by adding underground dewatering wells and by obtaining a National Pollutant Discharge Elimination System permit to authorize discharge of groundwater to Little Antelope Creek. Mined ore would be hauled using highway-legal trucks to existing off-site milling facilities via existing roads that would be improved as needed. No on-site processing facilities are proposed.

The Draft EIS for the Hollister Underground Mine Project was available for review on June 1, 2012 (77 FR 32665). A 45-day comment period occurred. The BLM received a total of 33 comment submittals (e.g. letter, comment form or email). Key issues identified by individuals, groups or organizations, Tribe members, and governmental entities include: potential impacts to cultural resources and the traditional cultural properties, access, discharge to surface water, seeps and springs, post-closure groundwater contamination, air quality, and support for the project.

Comments on the Draft Supplemental EIS received from the public and internal BLM review were considered and incorporated as appropriate into the Final EIS. Public comments resulted in the addition of clarifying text, but did not significantly change the analysis.

The agency preferred alternative is the Proposed Action and the Backfill Alternative. The Backfill Alternative would require the shafts to be completely backfilled.

Following a 30-day Final EIS availability and review period, a Record of Decision (ROD) will be issued. The decision reached in the ROD is subject to appeal to the Interior Board of Land Appeals. The 30-day appeal period begins with the issuance of the ROD.

Authority: 40 CFR 1506.6; 40 CFR 1506.10.

Richard E. Adams,
Field Manager, Tuscarora Field Office.

[FR Doc. 2013-16126 Filed 7-3-13; 8:45 am]

BILLING CODE 4310-HC-P